DEPARTMENT OF THE INTERIOR

Bureau of Land Management

[PO #4820000251]

Record of Decision and Approved Resource Management Plan for the Organ Mountains-Desert Peaks National Monument, New Mexico

AGENCY: Bureau of Land Management, Interior.

ACTION: Notice of availability.

SUMMARY: The Bureau of Land Management (BLM) announces the availability of the Record of Decision (ROD) for the Approved Resource Management Plan (RMP) for the Organ Mountains-Desert Peaks National Monument (Monument) located in Doña Ana County, New Mexico. The BLM New Mexico State Director signed the ROD on January 8, 2025, which constitutes the decision of the BLM and makes the Approved RMP effective immediately.

DATES: The New Mexico State Director signed the ROD on January 8, 2025.

ADDRESSES: The ROD/Approved RMP are available online at: https://eplanning.blm.gov/eplanning-ui/project/92170/510. Printed copies of the ROD/Approved RMP are available for public inspection at the BLM Las Cruces District Office, 1800 Marquess Street, Las Cruces, New Mexico 88005, telephone: (575) 525-4464, or can be provided upon request by contacting Monument Manager Lane Hauser, BLM Las Cruces District Office; telephone: (575) 525-4464, email lhauser@blm.gov.

A copy of the Protest Resolution Report is available at: https://www.blm.gov/programs/planning-and-nepa/public-participation/protest-resolution-reports.

FOR FURTHER INFORMATION CONTACT: Monument Manager Lane Hauser, BLM Las Cruces District Office; telephone: (575) 525-4464; address: 1800 Marquess Street, Las Cruces, New Mexico 88005; email: lhauser@blm.gov. Individuals in the United States who are deaf, deaf-blind, hard of hearing, or have a speech disability may dial 711 (TTY, TDD, or Tele Braille) to access telecommunications relay services for contacting Mr. Lane Houser. Individuals outside the United States should use the relay services offered within their country to make international calls to the point-of-contact in the United States.

SUPPLEMENTARY INFORMATION: The Approved RMP replaces previous land use management guidance found in the 1993 Mimbres RMP, as amended, for all Monument objects, lands, resources, resource values, and wildlife habitat. The Approved RMP provides long-term management for approximately 496,330-acres of BLM-administered public lands in Doña Ana County, New Mexico. In accordance with Presidential Proclamation 9131 (79 FR 30431); Section 2 of the Antiquities Act of 1906 (Pub. L. 59-206); the John D. Dingell Jr. Conservation, Management, and Recreation Act of 2019 (Pub. L. 116-9) (Dingell Act); and the Wilderness Act of 1964 (16 U.S.C. 1131 et seq.), the Approved RMP employs protection, preservation, and conservation principles as a management framework to administer the Monument while providing the public with opportunities to observe, study, and enjoy Monument lands. The Approved RMP identifies land use allocations and resource management goals, objectives, and direction for the protection of objects of scientific and historic interest, preservation of wilderness character, and conservation of natural and cultural resources, resource values, and wildlife habitat.

The Approved RMP is consistent with appropriate laws, regulations, executive orders and proclamations, and agency policy, including, but not limited to, the Federal Land Policy and Management Act, the National Environmental Policy Act, the Endangered Species Act, and section 106 of the National Historic Preservation Act. Through the planning process, the BLM considered reasonably foreseeable impacts associated with the land use allocations and resource management decisions. The BLM assessed five alternatives in the Draft and Final Environmental Impact Statement (EIS) and selected Alternative E as the Proposed RMP, now Approved RMP.

In order to meet the purpose and need of the planning effort and the mandate of Presidential Proclamation 9131, the BLM developed decisions of allowable and prohibited uses of public lands within the Monument. As with all decisions in the Approved RMP, the BLM considered input from Tribal Nations, cooperating State and Federal agencies, the public, and the Office of the Governor of New Mexico.

All clarifications and modifications made between the publication of the Proposed RMP and the Approved RMP are summarized in the ROD. One update relates to the analysis of the social cost of greenhouse gases in the Approved RMP. The Proposed RMP and the Final EIS relied on the 2021 Interagency Working Group estimates to calculate the social cost of greenhouse gases. The ROD and Approved RMP adopt the 2023 Environmental Protection Agency calculations for analyzing the social cost of greenhouse gases. The BLM also clarified the wilderness management goals in the Approved RMP to be consistent with the Wilderness Act. In addition, new management direction was added for the development of a travel management plan. The specific language is below:

• Goal: Subject to valid existing rights, exceptions or special provisions specifically authorized by appropriate legal authority, the BLM shall be responsible for preserving the Wilderness character of the area and so administer such area for the purpose it was designated by Congress. In doing so, the BLM shall not designate a permanent or temporary road within a designated Wilderness area for motorized vehicle use or mechanical transport, nor shall the BLM allow the use of motorized equipment, motorboats, the landing of aircraft, or the establishment of a structure or installation within any such area.

• Management Direction: The BLM shall develop a Travel and Transportation Management Plan during implementation of this RMP that incorporates guidance, direction, restrictions, exceptions, and special provisions provided for in the 2019 John D. Dingell, Jr. Conservation, Management and Recreation Act, as amended; the 2009 Omnibus Public Land Management Act, as amended; the Federal Land Policy and Management Act of 1976, as amended; the Wilderness Act of 1964, as amended; or other applicable legal authorities, as appropriate.

These modifications do not constitute substantial changes from the Proposed RMP to the Approved RMP.

The BLM provided announcement of the availability of the Proposed RMP and Final EIS on October 11, 2024, (89 FR 82622) for a 30-day public protest period and received seven protest letters. Upon careful review of the issues identified in each of the seven protest letters, the BLM Director resolved all protests. No changes to the ROD or Approved RMP were necessary to address valid protests. Responses to protest issues were compiled and documented in a Protest Resolution Report (see ADDRESSES).

The BLM provided the Proposed RMP and Final EIS to the Governor of New Mexico for a 60-day Governor's consistency review on October 11, 2024. The Office of the Governor of New Mexico did not identify any concerns or potential inconsistencies between the Proposed RMP and State and local plans, policies, and programs.

(Authority: 40 CFR 1506.6; 43 CFR 1610.5-1)

Melanie G. Barnes,
BLM New Mexico State Director.

[FR Doc. 2025-00364 Filed 1-10-25; 8:45 am]

BILLING CODE 4331-23-P